DEPARTMENT OF HEALTH AND HUMAN SERVICES

Substance Abuse and Mental Health Services Administration

Center for Substance Abuse Prevention; Notice of Meeting

Pursuant to Public Law 92-463, notice is hereby given of the meeting of the SAMHSA Center for Substance Abuse Prevention (CSAP) National Advisory Council in June 2003.

The agenda will include the review, discussion, and evaluation of individual grant applications. Therefore a portion of the meeting will be closed to the public as determined by the Administrator, SAMHSA, in accordance with Title 5 U.S.C. 552b(c)(6) and 5 U.S.C. App.2, 10(d).

The agenda for the open portion of the meeting will include presentations on SAMHSA's Strategic Vision and SAMHSA's Science to Services Initiative, Standard Funding Mechanism and Outsourcing and Changes for the Agency, Building the components of a Prevention Framework, the Faith Initiative, and an update on the National Registry of Effective Programs. Public comments are welcome. Please communicate with the individual listed as contact below for guidance. If anyone needs special accommodations for persons with disabilities, please notify the contact listed below.

A summary of this meeting, a roster of committee members and substantive program information may be obtained from Carol Watkins, Executive Secretary, Rockwall II Building, Suite 900, 5600 Fishers Lane, Rockville, Maryland 20857, Telephone: (301) 443-9542.

Committee Name: SAMHSA Center for Substance Abuse Prevention National Advisory Council.

Meeting Dates: Monday, June 24, 2003, 8:30 a.m.-3 p.m. (Open Session). Monday, June 24, 2003, 3 p.m.-5 p.m. (Closed Session). Tuesday, June 25, 2003, 8:30 a.m.-12:30 p.m. (Open Session).

Meeting Place: Center for Substance Abuse Prevention, 5515 Security Lane, Rockwall II Building, Director's Conference Room, Room 900, Rockville, Maryland, Telephone (301) 443-0365.

Contact: Carol D. Watkins, Executive Secretary, 5600 Fishers Lane, Rockwall II Building, Suite 900, Rockville, Maryland 20857, Telephone: (301) 443-9542.

This notice is being published less than 15 days prior to the meeting due to the urgent need to meet timing limitations imposed by the review and funding cycle.

Dated: June 16, 2003.
Toian Vaughn,
Executive Secretary/Committee Management Officer, Substance Abuse and Mental Health Services Administration.

[FR Doc. 03-15822 Filed 6-23-03; 8:45 am]

BILLING CODE 4162-20-P